DEPARTMENT OF STATE

[Public Notice 3643]

Bureau of Oceans, International Environmental and Scientific Affairs; Notice of the Availability of Draft Synthesis Report of the IPCC Third Assessment Report and Request for Comments

ACTION: Notice.

SUMMARY: The Intergovernmental Panel on Climate Change (IPCC) has prepared a draft Synthesis Report for its Third Assessment Report (TAR) on Climate Change. The IPCC is an international scientific body that prepares assessments on the state of knowledge on climate change, its potential impacts, and options for response. The topics covered by the Panel are diverse and range from detection and attribution of climate change, evaluation of climate models, and prediction of climate change, to impacts of climate change on ecosystems and human activities, evaluation of options for adaptation, and technical assessments of options for reducing emissions of greenhouse gases.

During April and May, 2001, IPCC is coordinating a simultaneous expert and government review of the draft Synthesis Report. This report synthesizes the information contained in the Third Assessment Report, including on the rate and magnitude of climate change, the extent of impacts, and the costs and benefits of different response strategies. In addition to its own expert review, the IPCC Secretariat accepts both expert and government comments on this report through national governments.

The U.S. Subcommittee on Global Change Research (SGCR) is coordinating the preparation of the comments of the U.S.G. Through this notice, the SGCR is announcing the availability of the draft Synthesis Report of the IPCC's Third Assessment Report and is requesting comments on the draft report by April 27, 2001 from scientists, experts and other interested organizations and individuals. The comments received will be reviewed, combined, and incorporated, as appropriate, in the process of preparing the set of official USG comments to the IPCC. It should be noted that this is a draft report and should not be cited or quoted as it is still undergoing review and is likely to be changed.

Comments on the review draft should indicate: (1) Name, affiliation, postal address, email address, and other contact information; and (2) the general area of expertise of the reviewer. Reviewer comments on the draft Synthesis Report of the IPCC's Third Assessment Report (preferably submitted as an attachment to an email message) must be received at the email addresses indicated below on or before April 27, 2001. The SGCR cannot extend this deadline because the member countries of the IPCC have established a strict timetable for the review process and require prompt submission of USG comments.

ADDRESSES: Interested individuals or organizations may register as a reviewer and access the draft Synthesis Report at the Global Change Research Information Office (GCRIO) website at http://www.gcrio.org/ipccform/. Alternatively, requests with the required information (see above) may be sent electronically to GCRIO at “help@gcrio.org”; or to GCRIO at P. O. Box 1000, 61 Route 9W, Palisades, New York 10964. Review comments should be submitted via email to USIPCCTARSYN@usgcrp.gov. Review comments should be in Microsoft Word or WordPerfect and formatted according to guidance provided on the GCRIO website. If email submission is not possible, review comments may be submitted via mail to: US Comments, IPCC TAR Synthesis Report, Office of the U.S. Global Change Research Program, 400 Virginia Avenue, SW, Suite 750, Washington, DC 20024.

FOR FURTHER INFORMATION CONTACT: IPCC TAR Review Coordinator, Office of the U.S. Global Change Research Program, Suite 750, 400 Virginia Avenue, SW, Washington, DC 20024; or telephone 202-488-8630, fax to 202-488-8681, or send an email to office@usgcrp.gov.

SUPPLEMENTARY INFORMATION:

I. Background

The Intergovernmental Panel on Climate Change (IPCC) was jointly established in 1988 by the United Nations Environment Programme and the World Meteorological Organization to conduct periodic assessments of the state of knowledge concerning global climate change. The first Scientific Assessment Report was prepared in 1990 and the Second Assessment Report was prepared in 1995. The IPCC has formed three working groups to conduct its assesments. Working Group I addresses the state of the science on what is happening and projected to happen to the climate system; Working Group II addresses the state of the science on regional, sectoral and cross-sectoral impacts of, and adaptation to, climate change, including the social dimensions and economic costs and benefits; and Working Group III addresses the state of science concerning mitigation of climate change, including the social aspects and economic costs and benefits, and methodological aspects of cross-cutting issues. The individual reports of the working groups were approved in January and February. The Summary for Policymakers for each report is available on the IPCC Web site at http://www.ipcc.ch/.

The IPCC reports are prepared by hundreds of scientists from well over 50 countries. They provide a comprehensive assessment of the state of knowledge concerning topics such as scientific information, environmental impacts, response strategies, and other issues concerning climate change. Each report contains numerous technical chapters prepared by experts in the field, and a Summary for Policymakers that is based on the technical chapters but negotiated line-by-line by governments. As part of the Third Assessment Report, the IPCC is currently preparing a Synthesis Report based on the three working group reports. This report will address a series of policy-relevant science questions that have been approved by member governments of the IPCC. These questions explore the effects, costs, and benefits of different stabilization targets for atmospheric concentrations of greenhouse gases. The report is intended as input to deliberations within the UN Framework Convention on Climate Change.

II. Review Process

The member countries of the IPCC have established a timetable to ensure that the IPCC Secretariat can meet its obligations for a timely completion of the IPCC Third Assessment Report. The SGCR is responsible for coordinating preparation of the USG response, and through this notice is seeking the views of experts and interested organizations and individuals to help in the formulation of its response. Comments will be reviewed, integrated, and used, as appropriate, in the preparation of the official USG comments. An information sheet providing specific guidance on formatting comments is provided Global Change Research Information Office (GCRIO) website. All comments must provide the name and affiliation of the reviewer, and an indication of their area of expertise. This is in accord with the IPCC practice that all reviewer comments are attributed. To be most useful, comments should be specific in suggesting alternative wording or other changes to the text of a particular paragraph or section and, where appropriate, offer supporting information and peer-reviewed references and/or reference relevant sections of the approved working group reports. Comments on the overall tone and scientific validity of the report and comments expressing the reasons for agreement or disagreement with specific major points are also solicited. Reviews should consider the consistency of the Synthesis Report with the underlying materials, particularly the Summaries for Policymakers for the three Working Groups and the selection and representation of major points.

III. Public Availability of Comments

Subsequent to the USG assembly of its comments, the collection of comments received will be available for public inspection at the Department of State Reading Room. Note that the IPCC draft reports are only available over the Web. The official US Government comments will also subsequently be posted on the Web at http://www.state.gov/www/global/global_issues/climate/index.html.

Dated: April 9, 2001.
Trigg Talley,
Acting Director, Office of Global Change, U.S. Department of State.

[FR Doc. 01-9212 Filed 4-12-01; 8:45 am]

BILLING CODE 4710-06-U